NUCLEAR REGULATORY COMMISSION

[Docket No. 50-244; NRC-2010-0317]

R.E. Ginna Nuclear Power Plant, LLC; R.E. Ginna Nuclear Power Plant Environmental Assessment and Finding of No Significant Impact

The U.S. Nuclear Regulatory Commission (NRC) is considering changes to the Emergency Plan, pursuant to 10 CFR 50.54, “Conditions of licenses,” paragraph (q), for Facility Operating License No. DPR-18, issued to R.E. Ginna Nuclear Power Plant, LLC (the licensee), for operation of the R.E. Ginna Nuclear Power Plant (Ginna), located in Ontario, New York. In accordance with 10 CFR 51.21, the NRC performed an environmental assessment. Based on the results of the environmental assessment, the NRC is issuing a finding of no significant impact.

Environmental Assessment

Identification of the Proposed Action

The proposed action would upgrade selected Emergency Action Levels (EALs) based on NEI 99-01, Revision 5, “Methodology for Development of Emergency Action Levels,” using the guidance of NRC Regulatory Issue Summary 2003-18, Supplement 2, “Use of Nuclear Energy Institute (NEI) 99-01, Methodology for Development of Emergency Action Levels.”

The proposed action is in accordance with the licensee's application dated November 30, 2009 (Agencywide Documents Access and Management System (ADAMS) Accession No. ML093370215), as supplemented by letter dated May 14, 2010 (ADAMS Accession No. ML101400133).

The Need for the Proposed Action

The current Ginna NUMARC/NESP-007 based Emergency Plan EALs were developed in 1994 and approved by the NRC in February 1995. Currently, loss of annunciators to a single control room panel requires the licensee to declare a Notice of Unusual Event (NOUE), as experienced in 2007 and 2009. Improvements have since been made to the Ginna control room indication and annunciation systems and the licensee has determined that the current EALs are more conservative than the intent of NEI 99-01. Overly conservative criteria could lead to the premature declaration of an NOUE. The licensee has requested NRC approval of EALs based on NEI 99-01 to match the level of EAL conservatism with the industry standard.

The NRC has completed its evaluation of the proposed action and concludes that the proposed changes to the Ginna EALs meet the guidance of NEI 99-01, which the staff considers to be an acceptable alternative for development of an EAL scheme that meets regulatory requirements. Based on this, the staff concludes that the proposed EALs meet the standards of 10 CFR 50.47(b) and the requirements of Appendix E to 10 CFR Part 50 and provide reasonable assurance that the licensee will take adequate protective measures in a radiological emergency.

Environmental Impacts of the Proposed Action

The NRC has completed its environmental assessment of the proposed EAL changes to the R.E. Ginna Nuclear Power Plant. The staff has concluded that the changes would not significantly affect plant safety and would not have a significant adverse effect on the probability of an accident occurring. The proposed action would not result in an increased radiological hazard beyond those previously analyzed in the Updated Final Safety Analysis Report. There will be no change to radioactive effluents that affect radiation exposures to plant workers and members of the public. No changes will be made to plant buildings or the site property. Therefore, no changes or different types of radiological impacts are expected as a result of the proposed changes.

The proposed action does not result in changes to land use or water use, or result in changes to the quality or quantity of non-radiological effluents. No changes to the National Pollution Discharge Elimination System permit are needed. No effects on the aquatic or terrestrial habitat in the vicinity or the plant, or to threatened, endangered, or protected species under the Endangered Species Act, or impacts to essential fish habitat covered by the Magnuson-Stevens Act are expected. There are no impacts to the air or ambient air quality. There are no impacts to historical and cultural resources. There would be no noticeable effect on socioeconomic conditions in the region. Therefore, no changes or different types of non-radiological environmental impacts are expected as a result of the proposed action. Accordingly, the NRC concludes that there are no significant environmental impacts associated with the proposed action.

The details of the staff's safety evaluation will be provided with the license amendment that will be issued to the licensee approving the EAL changes.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement for the R.E. Ginna Nuclear Power Plant, dated December 1973, and Supplement 14 to the Generic Environmental Impact Statement for License Renewal of Nuclear Plants (NUREG-1437) dated January 2004.

Agencies and Persons Consulted

In accordance with its stated policy, on August 17, 2010, the staff consulted with the New York State official, Alyse Peterson, P.E., of the New York State Energy Research and Development Authority, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated November 30, 2009, as supplemented by letter dated May 14, 2010. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 28th day of September 2010.
For the Nuclear Regulatory Commission.
Douglas V. Pickett,
Senior Project Manager, Plant Licensing Branch I-1, Division of Operating Reactor Licensing, Office of Nuclear Reactor Regulation.

[FR Doc. 2010-25158 Filed 10-5-10; 8:45 am]

BILLING CODE 7590-01-P